DEPARTMENT OF TRANSPORTATION

Federal Aviation Administration

Public Notice for Waiver of Aeronautical Land-Use Assurance; Greater Beardstown Airport, Beardstown, IL

AGENCY: Federal Aviation Administration, DOT.

ACTION: Notice of intent of waiver with respect to land.

SUMMARY: The Federal Aviation Administration (FAA) is considering a proposal to change a portion of airport land from aeronautical use to non-aeronautical use and to authorize the exchange of the property for land needed to protect the transitional surface of Runway 18/36. The proposal consists of a 2.1-acre portion of Parcel 1 in exchange for 9.6 acres of Parcel 3. Presently the 2.1 acres of Parcel 1 is located outside of the fenced in portion of airport property and any protected zone (runway protection zone, object free area, object free zone, etc.) This land is currently being used as residential and has a mobile home located on it. Parcel 1 was acquired in 1986 with Federal participation. It is the intent of the City of Beardstown, as owner and operator of the Greater Beardstown Airport (K06) to exchange the subject portion of Parcel 1 (2.1 Acres) to Ms. Hardwick, Beardstown, IL in exchange for 9.6 acres of land (portion of Parcel 3), which is in the side transition area of Runway 18/36. This notice announces that the FAA is considering the proposal to authorize the exchange of the subject airport property at the Greater Beardstown Airport, Beardstown, IL with a portion of Parcel 3 (9.6 acres). Approval does not constitute a commitment by the FAA to financially assist in disposal of the subject airport property nor a determination that all measures covered by the program are eligible for grant-in-aid funding from the FAA.

In accordance with section 47107(h) of Title 49, United States Code, this notice is required to be published in the Federal Register 30 days before modifying the land-use assurance that requires the property to be used for an aeronautical purpose.

DATES: Comments must be received on or before September 24, 2008.

FOR FURTHER INFORMATION CONTACT: Benjamin Mello, Program Manager, 2300 East Devon Avenue, Des Plaines, IL 60018. Telephone Number 847-294-7195/FAX Number 847-294-7046. Documents reflecting this FAA action may be reviewed at this same location by appointment or at the Illinois Department of Transportation, Division of Aeronautics, 1 Langhorne Bond Drive, Abraham Lincoln Capital Airport, Springfield, IL 62707.

SUPPLEMENTARY INFORMATION: Following is a legal description of the properties being exchanged located in Beardstown, Cass County, Illinois, and described as follows:

Portion of Parcel 1

Part of the Southwest Quarter (SW¼) of Section Twenty-five (25), Township Eighteen (18) North, Range Twelve (12) West of the Third Principal Meridian, Cass County, Illinois, being more particularly described as follows: Commencing at the Southwest corner of the Southwest Quarter (SW¼) of said Section Twenty-five (25); thence South 89°56′00″ East (basis of bearing is Illinois State Plane Coordinate System. NAID 83, Illinois West Zone) along the South line of said Quarter Section a distanced 1658.91 feet to the Point of Beginning; thence continuing South 89°56′00″ East along the South line of said Quarter Section a distance of 330.00 feet; thence North 00°01′41″ West a distance of 280.00 feet; thence North 89°56′00″ West a distance of 330.00 feet; thence South 00°01′41″ East a distance of 280.00 feet to the Point of Beginning.

Said parcel contains 2.12 acres more or less.

In Exchange for a Portion of Parcel 9

Part of the West Half (W½) of the Northwest Quarter (NW ¼), and part of the Northwest Quarter (NW¼) of the Southwest Quarter (SW¼), all in Section Thirty-six (36), Township Eighteen (18) North, Range Twelve (12) West of the Third Principal Meridian, Cass County, Illinois, being more particularly described as follows:

Commencing at the Northwest corner of the Northwest Quarter (NW ¼) of said Section Thirty-six (36); thence South 89°56′00″ East (basis of bearing is Illinois State Plane Coordinate System, NAD 83, Illinois West Zone) along the North line of said Quarter Section a distance of 1119.00 feet; thence South 00°02′04″ East a distance of 600.00 feet to a found concrete marker, said marker being a corner on the East line of a tract of land conveyed to the City of Beardstown, Illinois by a Deed of Conveyance, recorded October 1, 1993 as Document No. 108036 in the Office of the Recorder of Cass County, Illinois, and said marker also being the True Point of Beginning; thence continuing South 00°02′04″ East along the East line of said tract a distance of 3350.05 feet to a point on the South line of the Northwest Quarter (NW¼) of the Southwest Quarter (SW¼) of said Section Thirty-six (36); thence South 89°53′25″ East along the South line of the Northwest Quarter (NW¼) of the Southwest Quarter (SW¼) of said Section Thirty-six (36) a distance of 120.00 feet; thence North 00°02′04″ West a distance of 2835.14 feet; thence South 89°56′00″ East a distance of 30.00 feet; thence North 00°02′04″ West a distance of 515.00 feet; thence North 89°56′00″ West a distance of 150.00 feet to the True Point of Beginning.

Said parcel contains 9.58 acres, more or less.

Issued in Des Plaines, Illinois, on August 13, 2008.
Jack Delaney,
Acting Manager, Chicago Airports District Office, FAA, Great Lakes Region.

[FR Doc. E8-19566 Filed 8-22-08; 8:45 am]

BILLING CODE 4910-13-M